DEPARTMENT OF COMMERCE

National Oceanic and Atmospheric Administration

[RTID 0648-XB049]

Pacific Fishery Management Council; Public Meeting

AGENCY: National Marine Fisheries Service (NMFS), National Oceanic and Atmospheric Administration (NOAA), Commerce.

ACTION: Notice of public meeting.

SUMMARY: The Pacific Fishery Management Council's (Pacific Council) Highly Migratory Species Management Team (HMSMT) will hold an online meeting, which is open to the public.

DATES: The online meeting will be held on Thursday, May 13, 2021, beginning at 9 a.m. Pacific Daylight Time and continuing until business is completed.

ADDRESSES: This meeting will be held online. Specific meeting information, including directions on how to join the meeting and system requirements will be provided in the meeting announcement on the Pacific Council's website (see www.pcouncil.org). You may send an email to Mr. Kris Kleinschmidt (kris.kleinschmidt@noaa.gov) or contact him at (503) 820-2412 for technical assistance.

Council address: Pacific Fishery Management Council, 7700 NE Ambassador Place, Suite 101, Portland, OR 97220-1384.

FOR FURTHER INFORMATION CONTACT: Kit Dahl, Staff Officer, Pacific Council; telephone: (503) 820-2422.

SUPPLEMENTARY INFORMATION: The purpose of the meeting is for the HMSMT to discuss and prepare reports for HMS items on the Council's June 2021 meeting agenda. There are two items on the Council meeting agenda that will be the focus of the HMSMT meeting, summarized below. The HMSMT also may discuss other items on the June Council agenda and conduct general workload planning.

First, the HMSMT needs to prepare an analysis of drift gillnet (DGN) fishery performance metrics. These performance metrics track bycatch of specified protected species and finfish species of concern and are reported to the Council each June based on available bycatch data. In June 2019, the Council endorsed a new analytical method proposed by the HMSMT. Because performance metrics were not reported in 2020, this would be the first year this new analytical method will be used.

Second, the HMSMT will discuss recommendations to address scoping and the development of a range of alternatives for DGN fishery hard caps. The Council took final action in September 2015 to implement “hard cap” for selected protected species taken in the DGN fishery as a bycatch mitigation measure. Implementing regulations became effective in February 2020 but were subsequently vacated by court order. The Council wishes to consider alternative bycatch mitigation methods, consistent with its original intent, and considering the reasons the previous implementing regulations were vacated by the Court.

A meeting agenda will be available on the Council website at least one week before the meeting.

Although non-emergency issues not contained in the meeting agenda may be discussed, those issues may not be the subject of formal action during this meeting. Action will be restricted to those issues specifically listed in this document and any issues arising after publication of this document that require emergency action under section 305(c) of the Magnuson-Stevens Fishery Conservation and Management Act, provided the public has been notified of the intent to take final action to address the emergency.

Special Accommodations

Requests for sign language interpretation or other auxiliary aids should be directed to Mr. Kris Kleinschmidt (kris.kleinschmidt@noaa.gov; (503) 820-2412) at least 10 days prior to the meeting date.

Dated: April 26, 2021.
Tracey L. Thompson,
Acting Deputy Director, Office of Sustainable Fisheries, National Marine Fisheries Service.

[FR Doc. 2021-08995 Filed 4-28-21; 8:45 am]

BILLING CODE 3510-22-P